DEPARTMENT OF COMMERCE

National Oceanic and Atmospheric Administration

Proposed Information Collection; Comment Request; Gulf of Mexico Fishery Management Council Stakeholder Communication Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 28, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Charlene Ponce, (813) 348-1630 ext. 229, or Charlene.Ponce@gulfcouncil.org.

SUPPLEMENTARY INFORMATION:

I. Abstract

This request is for a new information collection.

The Gulf of Mexico Fishery Management Council (Council) has adopted a five-year strategic communications plan that requires the Communications staff to not only implement specific outreach and education strategies and tactics to Gulf of Mexico commercial fishermen, recreational anglers, non-governmental organizations, and others interested in fisheries issues, but to also provide a means to evaluate the effectiveness and measure the success of specific tactics. In order to incorporate these performance metrics into the communications plan, a baseline survey is necessary to identify current attitudes, awareness, and communication gaps. This information will help us establish a point from which we can evaluate and measure program effectiveness and success.

The information collected by the survey will be used to achieve a baseline measurement of the effectiveness of current Council communications. The survey will be conducted by council staff through a Web-based survey. A survey link will be emailed to stakeholders, posted on the Council Web site, and published in the Council blog. The link will also be made available through our smart phone regulations Apps and Facebook page. A follow-up survey will be conducted within 2-3 years of the initial survey.

II. Method of Collection

This will be a self-selected, online survey.

III. Data

OMB Control Number: None.

Form Number: None.

Type of Review: Regular submission (request for a new information collection).

Affected Public: Individuals and households; business or other for-profit organizations; not-for-profit institutions.

Estimated Number of Respondents: 900.

Estimated Time per Response: 10 minutes.

Estimated Total Annual Burden Hours: 150.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 21, 2012.
Gwellnar Banks,
Management Analyst, Office of the Chief Information Officer.

[FR Doc. 2012-28803 Filed 11-27-12; 8:45 am]

BILLING CODE 3510-22-P